DEPARTMENT OF THE INTERIOR

National Park Service

[NPS-WASO-NAGPRA-NPS0038527; PPWOCRADN0-PCU00RP14.R50000]

Notice of Intended Repatriation: University of North Dakota, Grand Forks, ND, and University of North Dakota Alumni Association & Foundation, Grand Forks, ND

AGENCY: National Park Service, Interior.

ACTION: Notice.

SUMMARY: In accordance with the Native American Graves Protection and Repatriation Act (NAGPRA), the University of North Dakota and the UND Alumni Association & Foundation intend to repatriate certain cultural items that meet the definition of sacred objects and that have a known lineal descendant.

DATES: Repatriation of the cultural items in this notice may occur on or after September 20, 2024.

ADDRESSES: Dr. Crystal Alberts, University of North Dakota, Twamley Hall Room 300, 264 Centennial Drive, Grand Forks, ND 58202, telephone (701) 777-2393, email und.nagpra@und.edu.

SUPPLEMENTARY INFORMATION: This notice is published as part of the National Park Service's administrative responsibilities under NAGPRA. The determinations in this notice are the sole responsibility of the University of North Dakota and the UND Alumni Association & Foundation, and additional information on the determinations in this notice, including the results of consultation, can be found in the summary or related records. The National Park Service is not responsible for the determinations in this notice.

Abstract of Information Available

A total of two cultural items have been requested for repatriation. The two sacred objects are one pipe and an associated pipe bag. Neither object has been treated with potentially hazardous substances to the best of the institutions' knowledge.

These items were a part of the Victor A. Corbett Collection, gifted to the UND Alumni Association & Foundation (UNDAAF) circa February 1988. According to the New York City-based appraisers consulted by the UNDAAF in the 1980s, most of these items were estimated to date from the 1890s through the 1950s with most acquired by Corbett in the 1940s and 50s and appear to be from tribes in what is now North Dakota and surrounding states.

Victor A. Corbett, a dentist in Minot, ND, from 1931-1984, was reported to accept artifacts from Native Americans in the surrounding area, namely the Standing Rock Sioux Tribe and the residents of the nearby Three Affiliated Tribes of Fort Berthold Reservation, sometimes in lieu of payment for dental services. Documents suggest he also collected objects related to Native American culture through various means, including purchasing and commissioning custom-made pieces. Additionally, research suggests that he would take objects from patients as collateral for an outstanding bill for dental services rendered. Collection records do not provide any additional information regarding the objects' provenience or provenance.

Included in this collection is a pipe bag described by the appraiser as “Buckskin pipe bag . . . Quilled panelling and leather fringe. Lazy-stitch beading. Probably SIOUX; c.1890. 7x24.” The design is geometric; the opening features a blue and black design broken up at regular intervals by narrow red lines. The top half is primarily plain buckskin with a white, blue and red symmetrical border on each side punctuated by three double pointed patterns at the bottom (red, blue, yellow, blue, white). The middle section features another symmetrical pattern with four red, blue, and yellow squares on the outside with two red and blue diamond plus a smaller, connected squares of the same color pattern surrounding a solid green square in the middle. These are placed on a white background with blue stitching on the side. The next portion is red fringe with three symmetrical white, possibly gray, and yellow squares across the middle. The bag ends with buckskin fringe. The accompanying ceremonial pipe is red and described by the appraiser as “Pipe and stem; plain cylindrical ash stem, with carved red catlinite T bowl; shallow diagonal oval cuts at one end of the bowl. SIOUX. Overall length: 21⅜.”

After viewing and interpreting each, a Dakota tribal elder and Mr. Timothy J. Mentz, Sr., a member of the Standing Rock Sioux Tribe, noted that these items belonged to Chief Big Head (Pa Tanka), a 19th century Upper Yanktonai leader.

Determinations

The University of North Dakota and the UND Alumni Association & Foundation have determined that:

• The two sacred objects described in this notice are specific ceremonial objects needed by a traditional Native American religious leader for present-day adherents to practice traditional Native American religion, according to the Native American traditional knowledge of a lineal descendant, Indian Tribe, or Native Hawaiian organization.

• Mr. Timothy J. Mentz, Sr. (Standing Rock Sioux Tribe of North & South Dakota) is connected to the cultural items described in this notice.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 20, 2024. If competing requests for repatriation are received, the University of North Dakota and the UND Alumni Association & Foundation must determine the most appropriate requestor prior to repatriation. Requests for joint repatriation of the cultural items are considered a single request and not competing requests. The University of North Dakota and the UND Alumni Association & Foundation are responsible for sending a copy of this notice to the Indian Tribes and Native Hawaiian organizations identified in this notice and to any other consulting parties.

Authority: Native American Graves Protection and Repatriation Act, 25 U.S.C. 3004 and the implementing regulations, 43 CFR 10.9.

Dated: August 7, 2024.
Melanie O'Brien,
Manager, National NAGPRA Program.

[FR Doc. 2024-18679 Filed 8-20-24; 8:45 am]

BILLING CODE 4312-52-P